POSTAL SERVICE

International Product Change—Canada Post—United States Postal Service Contractual Bilateral Agreement for Inbound Market-Dominant Services

AGENCY: Postal Service ™.

ACTION: Notice.

SUMMARY: The Postal Service gives notice of its intent to file a request with the Postal Regulatory Commission to add the Canada Post—United States Postal Service Contractual Bilateral Agreement for Inbound Market-Dominant Services to the Market-Dominant Products List pursuant to 39 U.S.C. 3642 and of its exercise of its authority to adjust rates for that product pursuant to 39 U.S.C. 3622.

DATES: November 14, 2008.

FOR FURTHER INFORMATION CONTACT: Margaret M. Falwell, 703-292-3576.

SUPPLEMENTARY INFORMATION: The United States Postal Service® hereby gives notice that it intends to file with the Postal Regulatory Commission, on or about November 14, 2008, a Request of United States Postal Service to Add Canada Post—United States Postal Service Contractual Bilateral Agreement for Inbound Market-Dominant Services to the Market-Dominant Product List, Notice of Type 2 Rate Adjustment, and Notice of Filing (Under Seal) Negotiated Service Agreement and Enabling Governors' Resolution. The Postal Service further provides notice that it has determined to exercise its statutory authority to make a Type 2 rate adjustment for the proposed market dominant postal product. The implementation date for these rates is January 1, 2009. Documents are or will be available at on the Postal Regulatory Commission's Web site, http://www.prc.gov.

Neva R. Watson,
Attorney, Legislative.

[FR Doc. E8-27148 Filed 11-13-08; 8:45 am]

BILLING CODE 7710-12-P